DEPARTMENT OF HEALTH AND HUMAN SERVICES

National Institutes of Health, National Cancer Institute; Notice of Meeting

Pursuant to section 10(a) of the Federal Advisory Committee Act, as amended (5 U.S.C. Appendix 2), notice is hereby given of a meeting of the Advisory Committee to the Director, National Cancer Institute.

The meeting will be open to the public, with attendance limited to space available. Individuals who plan to attend and need special assistance, such as sign language interpretation or other reasonable accommodations, should notify the Contact Person listed below in advance of the meeting.

Name of Committee: Advisory Committee to the Director, National Cancer Institute.

Date: November 6, 2000.

Time: 9:30 AM to 11:00 PM.

Agenda: The purpose of this meeting will be to discuss the Brain Tumor Progress Review Group Report.

Place: National Institutes of Health, 9000 Rockville Pike, Building 31, Room 11A10, Bethesda, MD 20892, (Telephone Conference Call).

Contact Person: Susan J. Waldrop, Executive Secretary, National Institutes of Health, National Cancer Institute, Office of Science Policy, Bethesda, MD 20892, 301/496-1458.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: September 27, 2000.
LaVerne Y. Stringfield
Director, Office of Federal Advisory Committee Policy.

[FR Doc. 00-25543 Filed 10-4-00; 8:45 am]

BILLING CODE 4140-01-M